DEPARTMENT OF COMMERCE

Foreign-Trade Zones Board

[Docket 47-2000]

Foreign-Trade Zone 104—Chatham County, Georgia Application for Expansion

An application has been submitted to the Foreign-Trade Zones (FTZ) Board (the Board) by the Savannah Airport Commission, grantee of FTZ 104, requesting authority to expand its zone in Chatham County, Georgia, within the Savannah Customs port of entry. The application was submitted pursuant to the provisions of the Foreign-Trade Zones Act, as amended (19 U.S.C. 81a-81u), and the regulations of the Board (15 CFR Part 400). It was formally filed on August 8, 2000.

FTZ 104 was approved on April 18, 1984 (Board Order 256, 49 FR 17789, 4/25/84) and expanded on October 13, 1995 (Board Order 775, 60 FR 54469, 10/24/95). The zone project currently consists of the following sites (2,163 acres) in the Savannah, Georgia area: Site 1 (32 acres)—within the 3,400-acre Savannah International Airport; Site 2 (10 acres)—Warehouse #83B, on Hunt Avenue within the 800-acre Garden City (Containerport) Terminal of the Georgia Ports Authority on the Savannah River, Chatham; Site 2a (1 acre, 43,560 sq. ft.)—730 King George Boulevard, Savannah; Site 3 (1,820 acres)—Crossroads Business Center, I-95 and Godley Road, Chatham County; and, Site 4 (300 acres)—SPA Industrial Park, 1 mile east of the I-95/U.S. 80 interchange in Chatham County.

The applicant is now requesting authority to expand its general-purpose zone to enlarge two existing sites (Sites 2 and 4) and add two new sites (Proposed Sites 5 and 6). Site 2 will be expanded to include an additional 839 acres at the Garden City (Containerport) Terminal (owned by the Georgia Ports Authority), 2 Main Street, Garden City; and, 226 acres at the Ocean Terminal (owned by the Georgia Ports Authority), 950 West River Street, Savannah. The proposed changes would expand Site 2 from 10 acres to 1,075 acres. Site 4, which is adjacent to the airport, will be expanded to include an additional portion of the SPA Industrial Park consisting of 1,052 acres (owned by J. C. Bamford Excavators Ltd.), located at 1 Bamford Boulevard, Pooler. The proposed change would expand Site 4 from 300 acres to 1,352 acres. The two new proposed sites are as follows: Proposed Site 5 (94 acres)—Savannah International Trade and Convention Center (owned by Chatham County), One International Drive, Savannah; and, Proposed Site 6 (2,239 acres)—Mulberry Grove site (owned by the Georgia Ports Authority), Interstate 95 and State Highway 21, Savannah. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is October 16, 2000. Rebuttal comments in response to material submitted during the foregoing period may be submitted during the subsequent 15-day period (to October 31, 2000).

A copy of the application and accompanying exhibits will be available for public inspection at each of the following locations:

U.S. Department of Commerce, Export Assistance Center, 6001 Chatham Center Drive, Suite 100, Savannah, GA 31405.

Office of the Executive Secretary, Foreign-Trade Zones Board, Room 4008, U.S. Department of Commerce, 14th & Pennsylvania Avenue NW, Washington, DC 20230.

Dated: August 8, 2000.
Dennis Puccinelli,
Executive Secretary.

[FR Doc. 00-20985 Filed 8-16-00; 8:45 am]

BILLING CODE 3510-DS-P